DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Registration for Behavioral Health Web Site and Resources—NEW

SAMHSA is authorized under section 501(d)(16) of the Public Health Service Act (42 U.S.C. 290aa(d)(16)) to develop and distribute materials for the prevention, treatment, and recovery from substance abuse and mental health disorders. To improve the way the public locates and obtains these materials, SAMHSA uses its Web site as an online resource for behavioral health information. A part of this Web site is SAMHSA's development of a voluntary registration process that will allow customers to create accounts that will save their order histories and shipping addresses. During the Web site registration process, SAMHSA will also ask customers for optional demographic information that will include organization affiliation, SAMHSA grantee identification information, and reasons for interest in behavioral health information. SAMHSA will use this information to conduct customer analyses that will inform materials development, assist in forecasting inventory needs, and identify ways that SAMHSA can improve its customer service. SAMHSA will request the same optional demographic information and state of residency when customers subscribe to its email update service, for the purpose of assessing information needs and better targeting email messages to appropriate audiences.

SAMHSA is employing a Web-based form for information collection to avoid duplication and unnecessary burden on customers who register both for an account on the Web site and for email updates. The Web technology allows SAMHSA to integrate the email update subscription process into the Web site account registration process. Customers who register for an account on the Web site will be given the option of being enrolled automatically to receive SAMHSA email updates. Any optional questions answered by the customer during the Web site registration process will automatically be mapped to the profile generated for the email update system, thereby reducing the collection of duplicate information.

SAMHSA will collect all customer information submitted for Web site registration and email update subscriptions electronically via a series of Web forms on the samhsa.gov domain. Customers can submit the Web forms at their leisure, or call SAMHSA's toll-free Call Center and an information specialist will submit the forms on their behalf. The electronic collection of information will reduce the burden on the respondent and streamline the data-capturing process. SAMHSA will place Web site registration information into a Knowledge Management database and will place email subscription information into a database maintained by a third-party vendor that serves multiple Federal agencies and the White House. Customers can change, add, or delete their information from either system at any time.

The respondents will be behavioral health professionals, researchers, parents, caregivers, and the general public.

SAMHSA estimates the burden of this information collection as follows:

Table 1—Estimated Annual Reporting Burden
| Number of respondents | Annual frequency per response | Total annual responses | Hours per response | Total hours
Web Site Registration | 41,200 | 1 | 41,200 | .033 (2 min.) | 1,360
E-mail Update Subscription | 24,000 | 1 | 24,000 | .017 (1 min.) | 480
Total | 65,200 |  | 65,200 |  | 1,840

Send comments to Summer King, SAMHSA Reports Clearance Officer, Room 7-1044, One Choke Cherry Road, Rockville, MD 20857 and e-mail a copy to summer.king@samhsa.hhs.gov. Written comments should be received within 60 days of this notice.

Dated: April 28, 2010.
Elaine Parry,
Director, Office of Program Services.

[FR Doc. 2010-11963 Filed 5-18-10; 8:45 am]

BILLING CODE 4162-20-P